DEPARTMENT OF STATE

[Public Notice 3734]

Bureau of Educational and Cultural Affairs Request for Grant Proposals: Administration of Partnership Programs in Higher Education

SUMMARY: The Humphrey Fellowships and Institutional Linkages Branch of the Office of Global Educational Programs in the Bureau of Educational and Cultural Affairs of the United States Department of State announces an open competition for an assistance award to cooperate with the Bureau in the administration of partnership programs in higher education in Fiscal Year 2002. These programs include the Educational Partnerships Program (formerly known as the College and University Affiliations Program), the NIS College and University Partnerships Program (NISCUPP), and the NIS Community College Partnerships Program (NISCCPP). The partnership programs in higher education award grants to accredited U.S. post-secondary institutions to administer projects that will strengthen mutual understanding and scholarly cooperation on subjects of enduring common interest to the United States, to other countries, and to the participating institutions. Contingent on the availability of funds, approximately 35 to 45 grant awards in an amount totaling between $7 million and $9 million may be issued under these programs during Fiscal Year 2002.

The integrity of these programs requires that they maintain the highest and most consistent standards of academic and professional quality in the selection of proposals and the implementation of projects. Public and private non-profit organizations meeting the provisions described in IRS regulation 26 CFR 1.501(c) may submit proposals to provide administrative and program services for the Bureau's educational partnership programs in Fiscal Year 2002 by undertaking the following activities: (1) Technical review of approximately 225 proposals that are expected to be submitted to the Bureau for these programs in Fiscal Year 2002; (2) coordinating the academic review of eligible proposals by independent panels of scholarly and professional experts in consultation with representatives of the Department of State, and providing expert recommendations about the merits of the proposals that should receive final consideration; (3) making substantive recommendations concerning the administration of the exchange projects to be funded through these programs and about the parameters and guidelines for these programs in future years; (4) dissemination of information about these programs for the FY2003 cycle; (5) conducting a proposal development workshop for approximately 25 administrators and faculty members at U.S. institutions of higher education; (6) cooperation in announcing the issuance of the FY 2002 grant awards and in promoting visibility for the projects funded under these programs; and, (7) development of an illustrated brochure for use in disseminating information about the purposes and achievements of educational partnership programs since their establishment by the Bureau in 1982.

Program Information

Overview

The Bureau's international institutional partnership programs in higher education support cooperative partnerships of U.S. colleges and universities with foreign post-secondary institutions through faculty and staff exchanges and related activities. Competitions target specified themes and geographic regions and typically focus on the humanities, the social sciences, public administration, business, law, journalism and mass communications, public health policy and administration, or educational administration. A list of previously issued educational partnership and affiliations grants can be found online at: http://exchanges.state.gov/education/cuap/history. Programs for which administrative cooperation is requested through this solicitation include the following programs:

(1) The Educational Partnerships Program, formerly known as the College and University Affiliations Program, supports partnerships with institutions in selected countries in every world region except the New Independent States of the former Soviet Union (NIS). Funding is currently provided from the Bureau's exchanges appropriation or through interagency transfers, for example, under the Support for East European Democracies (SEED) Act or the U.S.-North African Economic Partnership (USNAEP). Under this program, colleges and universities conduct exchanges of professors and administrators in projects designed to ensure a broad and coherent impact.

(2) On a parallel track and with funding provided through interagency transfers under the FREEDOM Support Act, the NIS College and University Partnerships Program (NISCUPP) supports partnerships with institutions in the NIS with an emphasis on projects that will assist countries in that world region in their transitions toward market-oriented economies and democratic political practices.

(3) Also with funding under the FREEDOM Support Act, the NIS Community College Partnerships Program (NISCCPP) supports the partnerships of U.S. community colleges with institutions in selected countries of the NIS with the same emphasis as in the NIS College and University Partnerships Program.

Based on recent experience, the Bureau anticipates receiving from 100 to 120 proposals for the Educational Partnerships Program; from 60 to 85 for the NISCUPP; and from 10 to 20 for the NISCCPP. The deadline for the submission of applications in these competitions is anticipated for January 2002. All competitions for which cooperation is invited in this solicitation will be announced in the Federal Register as Requests for Grant Proposals.

Applicant organizations should explain how they will administer the technical review in a fast and efficient manner, and how they will organize the independent review of eligible proposals by qualified experts in terms of the review criteria specified in the Requests for Grant Proposals. In addition, the proposal should explain how the applicant organization will utilize the expertise of panelists and its own knowledge of educational exchange programs to formulate recommendations for the administration of the FY2002 exchange projects and for the guidelines and parameters for these programs in future years. The proposal should also outline a strategy designed to ensure that information about these programs is widely disseminated to potential applicants for the FY2003 application cycles. An application workshop should be designed in consultation with the Bureau to increase the competitiveness of proposals submitted for these competitions. The proposal should outline a strategy for announcing the issuance of the FY2002 grant awards for these Programs in order to give appropriate visibility to funded projects and to the partnership programs within the U.S. and foreign academic communities. Finally, the proposal should outline a plan to prepare and publish a brochure about the purposes and achievements of educational partnership projects during the twenty years since the establishment of the College and University Affiliations Program in 1982.

Approximate Program Dates: Pending the availability of FY-2002 funds, the grant should begin on or about December 1, 2001 and end approximately November 30, 2002.

Guidelines

Project Description

The Humphrey Fellowships and Institutional Linkages Branch of the Bureau's Office of Global Educational Programs will work closely with the recipient of the cooperative agreement and will maintain a regular dialogue on administrative issues and questions as they arise over the duration of the award. In consultation with the Branch, the award recipient shall undertake the following tasks:

(1) Review approximately 225 proposals for compliance with the technical eligibility factors published in the appropriate Request for Grant Proposals (RFGP) for FY 2002 competitions. Copies of previous year RFGPs for the three partnership programs listed in this solicitation document will be provided in the application package. In addition, copies of the FY 2002 RFGPs will be made available if they are published prior to the deadline for this competition. Currently open RFGPs may also be accessed online at http://exchanges.state.gov/education/rfgps. RFGPs generally provide guidelines about eligible countries, fields, types of institutions, funding levels, deadlines and other requirements. Proposals may be declared ineligible due to: (a) Ineligibility of a U.S. or foreign partner institutions; (b) submission by an organization other than the U.S. partner; (c) ineligibility of the foreign country or location for the competition in question; (d) ineligibility of the amount of funding requested, or other factors. Upon completion of the technical review, the recipient should provide the Bureau with a list of eligible proposals, organized by foreign country or location.

(2) Coordinate the independent review of technically eligible proposals in meetings of scholarly and professional experts who are qualified by their regional and subject expertise to evaluate the proposals in terms of the published review criteria. The recipient of the cooperative agreement shall organize the meetings to review the proposals regionally or thematically in consultation with the program office. Applicants are encouraged to discuss and to recommend, in their submissions, options for organizing the review of proposals. Following the panel meetings, the cooperating agency shall promptly provide the Bureau with a detailed appraisal report, including a summary of the panel discussion, to facilitate the Department of State's review of those proposals recommended for its consideration. The appraisal reports shall also provide an adequate basis for the Bureau's program office to provide constructive suggestions for improving the proposals under review.

(3) Provide, based on discussions with the independent reviewers and on its own knowledge of international scholarly and educational exchange programs, substantive and broad-ranging recommendations to the Bureau regarding the proposed exchange projects and for program guidelines and parameters in future years.

(4) Disseminate information to institutions that have not previously applied to receive grants through the educational partnership programs administered by the Office of Global Educational Programs. Proposals should include creative strategies for identifying and communicating effectively with appropriate institutional officials as well as potential project directors with subject and regional interests that coincide with eligible competition themes and regions.

(5) Conduct one one-day proposal development workshop for approximately 25 representatives of institutions that submitted proposals in FY2000, FY2001, or FY2002 but which were not funded. The purpose of the workshop would be to enable these institutions to improve the quality of their submissions in the future. The proposal should outline a strategy for sharing the costs of this workshop with the participating institutions and for developing an appropriate agenda that will meet their needs as well as those of the program office.

(6) In coordination with the Bureau, announce the issuance of the FY2002 grant awards in order to achieve greater visibility for the educational partnership programs.

(7) In consultation with the Bureau, develop a brochure about the educational partnership programs, which have been administered by the Bureau since 1982. Summarize and highlight their objectives and achievements and, using information available on the program's website, report on the distribution of grants by field, country, and world region over more than twenty years of program activity.

In its submission, the applicant shall designate a coordinator to cooperate with the Bureau in overseeing the process for identifying qualified panelists, the technical reviews, the independent panel review meetings, the preparation of the detailed summaries of the academic review discussions, the provision of recommendations to the Bureau for the administration of these Programs, the dissemination of information about the FY2003 programs, the design and administration of the proposal development workshop, the announcement of the issuance of the FY2002 grant awards, and the preparation of the brochure.

Eligibility

To facilitate the observation of the panel review meetings by U.S. Department of State representatives, applicants should have the capacity to conduct the panel meetings in the Washington, D.C. metropolitan area.

Budget Guidelines

Because grants awarded to eligible organizations with less than four years of experience in conducting international exchange programs will be limited to $60,000, such organizations are not encouraged to apply in this competition.

Applicants must submit a comprehensive budget for the entire program. The total request to the Bureau, including any amount requested for a Travel Management Center (TMC) account, may not exceed $225,000. Please note that the Proposal Submission Instructions explain the use of TMC accounts and that a minimum travel budget of $20,000 is required to establish a TMC account. There must be a summary budget as well as separate sub-budgets for each program component to provide clarification.

Please refer to the Solicitation Package for complete budget guidelines and formatting instructions.

Announcement Title and Number: All correspondence with the Bureau concerning this RFGP should reference the above title and number ECA/A/S/U-02-02 (Administration of Partnerhsip Programs in Higher Education).

FOR FURTHER INFORMATION CONTACT: The Office of Global Educational Programs, ECA/A/S/U, room 349, U.S. Department of State, SA-44, 301 4th Street, S.W., Washington, D.C. 20547, telephone: 202-619-4126; fax: 202-401-1433; e-mail: jcebra@pd.state.gov to request a Solicitation Package. The Solicitation Package contains detailed award criteria, required application forms, specific budget instructions, and standard guidelines for proposal preparation. Please specify Bureau Program Officer Jonathan Cebra on all inquiries and correspondence.

Please read the complete Federal Register announcement before sending inquiries or submitting proposals. Once the RFGP deadline has passed, Bureau staff may not discuss this competition with applicants until the proposal review process has been completed.

To Download a Solicitation Package Via Internet

The entire Solicitation Package may be downloaded from the Bureau's website at http://exchanges.state.gov/education/RFGPs. Please read all information before downloading.

Deadline for Proposals

All proposal copies must be received at the Bureau of Educational and Cultural Affairs by 5 p.m. Washington, D.C. time on Friday, October 19, 2001.

Faxed documents will not be accepted at any time. Documents postmarked the due date but received on a later date will not be accepted. Each applicant must ensure that the proposals are received by the above deadline.

Applicants must follow all instructions in the Solicitation Package. The original and seven copies of the application should be sent to: U.S. Department of State, SA-44, Bureau of Educational and Cultural Affairs, Ref.: ECA/A/S/U-02-02, Program Management, ECA/EX/PM, Room 534, 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the 'Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office. Eligible proposals will be subject to compliance with Federal and Bureau regulations and guidelines and forwarded to Bureau grant panels for advisory review. Proposals may also be reviewed by the Office of the Legal Adviser or by other Department elements. Final funding decisions are at the discretion of the Department of State's Acting Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Quality of Program Plan/Ability to Achieve Program Objectives: Agenda and plan should adhere to the program overview and guidelines described above and in the Application Package. Objectives should be reasonable, feasible, and flexible. The proposal should clearly demonstrate how the organization will meet the program's objectives and plan, including the coordination of staffing for overlapping review schedules.

2. Institution's Record/Ability/Capacity: Proposed personnel and institutional resources should be adequate and appropriate to achieve the project's goals. The proposal should demonstrate responsible fiscal management and full compliance with all reporting requirements for past Bureau grants as determined by Bureau's Grants Division.

3. Support of Diversity: Proposals should demonstrate substantive support of the Bureau's policy on diversity. The proposal should describe the process for ensuring diversity among the review panelists. In addition to knowledge of eligible regions and subjects, panelists should also have appropriate experience with or knowledge of the types of institutions represented in the proposals to be reviewed.

4. Project Evaluation: Proposals should include a plan to evaluate the success of each program component. Draft survey questionnaires for the use of panelists and workshop participants should be provided.

5. Cost-effectiveness: The overhead and administrative components of the proposal, including salaries and honoraria, should be kept as low as possible. All other items should be necessary and appropriate. Proposals should maximize cost-sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for portions of the program cited above is provided through the Freedom for Russia and Emerging Eurasian Democracies and Open Markets Support Act of 1992 (FREEDOM Support Act) and through the Support for East European Democracies Act.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: July 24, 2001.
Brian J. Sexton,
Deputy Assistant Secretary for Professional Exchanges, Bureau of Educational and Cultural Affairs, U.S. Department of State.

[FR Doc. 01-19194 Filed 8-1-01; 8:45 am]

BILLING CODE 4710-05-P